DEPARTMENT OF ENERGY

Federal Energy Regulatory Commission

[Docket No. CP13-552-000; Docket No. CP13-553-000]

Sabine Pass Liquefaction Expansion, LLC, Sabine Pass Liquefaction, LLC, and Sabine Pass LNG, L.P., Cheniere Creole Trail Pipeline, L.P.; Notice of Application

Take notice that on September 30, 2013, Sabine Pass Liquefaction Expansion, LLC, Sabine Pass Liquefaction, LLC, and Sabine Pass LNG, L.P. (collectively referred to as Sabine Pass) filed with the Federal Energy Regulatory Commission an application under section 3(a) of the Natural Gas Act (NGA) for authorization to site, construct, and operate additional liquefied natural gas (LNG) export facilities at the Sabine Pass LNG Terminal in Cameron Parish, Louisiana, which was originally approved by the Commission in CP11-72-000 . The proposed facilities, referred to as the Liquefaction Expansion Project (or Stage 3), would consist of two new LNG liquefaction trains 5 and 6 and would increase the terminal's export capacity by 503 Bcf per year (251.5 Bcf per liquefaction train).

In addition, Cheniere Creole Trail Pipeline, L.P. (CCTPL) filed, in the same application, a request under section 7(c) of the NGA, for authorization to construct, own, and operate new interstate natural gas pipeline, compression, and related facilities in the State of Louisiana, referred to as the CCTPL Expansion Project, that would provide up to an additional 1.5 billion cubic feet per day (Bcf/d) of firm reverse flow capacity on the existing Cheniere Creole Trail pipeline system. In addition, the CCTPL Expansion Project would provide up to 2.0 Bcf/d of firm transportation capacity on newly proposed Zone 2 facilities, which would extend the CCTPL Pipeline to new receipt points providing access to the systems of Columbia Gulf Transmission Company, Pine Prairie Energy Center, ANR Pipeline Company, and Texas Gas Transmission, LLC. The new pipeline facilities would consist of approximately 104.3 miles of new 42-inch- and 36-inch pipeline (loop, mainline extension, and laterals), and 53,000 hp of additional compression at the new Mamou Compressor Station in Evangeline Parish, LA.

This application is on file with the Commission and open to public inspection. This filing is available for review at the Commission in the Public Reference Room or may be viewed on the Commission's Web site web at http://www.ferc.gov using the “eLibrary” link. Enter the docket number excluding the last three digits in the docket number field to access the document. For assistance, contact FERC at FERCOnlineSupport@ferc.gov or call toll-free, (886) 208-3676 or TYY, (202) 502-8659.

Any questions regarding the application should be directed to Patricia Outtrim or Rina Chang, Cheniere Energy, Inc., 700 Milam Street, Suite 800, Houston, TX 77002, by phone at (713) 375-5000 or by email at pat.outtrim@cheniere.com or rina.chang@cheniere.com or to Lisa M. Tonery or Tania S. Perez, Fulbright & Jaworski LLP, 666 Fifth Avenue, New York, NY 10103, by telephone at (212) 318-3009 or by email at lisa.tonery@nortonrosefulbright.com or tania.perez@nortonrosefulbright.com.

On March 8, 2013, the Commission staff granted Sabine Pass' and CCTPL's request to utilize the Pre-Filing Process and assigned Docket No. PF13-8-000 to staff activities involved the Sabine Pass Liquefaction Expansion and CCTPL Expansion Project's. Now as of the filing the September 30, 2013 application, the Pre-Filing Process for these projects has ended. From this time forward, this proceeding will be conducted in Docket Nos. CP13-552-000 and CP13-553-000, as noted in the caption of this Notice.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit seven copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 5 copies of the protest or intervention to the Federal Energy regulatory Commission, 888 First Street NE., Washington, DC 20426.

Comment Date: 5:00 p.m. Eastern Time on October 31, 2013.

Dated: October 10, 2013.
Nathaniel J. Davis, Sr.,
Deputy Secretary.

[FR Doc. 2013-24487 Filed 10-17-13; 8:45 am]

BILLING CODE 6717-01-P